DEPARTMENT OF JUSTICE

[OMB Number 1110-0050]

Agency Information Collection Activities; Proposed eCollection eComments Requested; Approval for a Revised Collection; FBI National Academy: End-of-Session Questionnaires, FBI National Academy: End-of-Session Student Course Questionnaire, FBI National Academy: General Remarks Questionnaire

AGENCY: Training Division, Federal Bureau of Investigation, Department of Justice.

ACTION: 30-day notice.

SUMMARY: The Department of Justice (DOJ), Federal Bureau of Investigation (FBI), Training Division's Curriculum Management Section (CMS) will be submitting the following information collection request to the Office of Management and Budget (OMB) for review and approval in accordance with the Paperwork Reduction Act of 1995. The proposed information collection is published to obtain comments from the public and affected agencies. This proposed information collection was previously published in the Federal Register Volume 79, Number 23, page 6629, on February 4, 2014, allowing for a 60 day comment period.

DATES: The purpose of this notice is to allow for an additional 30 days for public comments until May 12, 2014.

FOR FURTHER INFORMATION CONTACT: If you have comments (especially on the estimated public burden or associated response time), suggestions, or need a copy of the proposed information collection instrument with instructions or additional information, please contact Keith Shirley, Unit Chief, Evaluation and Accreditation Unit, Training Division, FBI Academy, Federal Bureau of Investigation, Quantico, Virginia 22135. Written comments and/or suggestions can also be directed to the Office of Management and Budget, Office of Information and Regulatory Affairs, Attention Department of Justice Desk Officer, Washington, DC 20530, or send to OIRA_submission@omb.eop.gov.

SUPPLEMENTARY INFORMATION: This process is conducted in accordance with 5 CFR 1320.10. Written comments and suggestions from the public and affected agencies concerning the proposed collection of information are encouraged. Your comments should address one or more of the following:

(1) Evaluate whether the proposed collection of information is necessary for the proper performance of the function of the agency/component, including whether the information will have practical utility;

(2) Evaluate the accuracy of the agency's/component's estimate of the burden of the proposed collection of the information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information

1. Type of Information Collection:

Approval of a Revised Collection.

2. Title of the Forms:

FBI National Academy: End-of-Session Student Course Questionnaire.

FBI National Academy: General Remarks Questionnaire.

3. Agency Form Number, if any, and the applicable component of the department sponsoring the collection:

Form Number: 1110-0050.

Sponsor: Training Division, Federal Bureau of Investigation (FBI), Department of Justice (DOJ).

4. Affected Public who will be asked or required to respond, as well as a brief abstract:

Primary: FBI National Academy students that represent state and local police and sheriffs' departments, military police organizations, and federal law enforcement agencies from the United States and over 150 foreign nations.

Brief Abstract: This collection is requested by FBI National Academy. These questionnaires have been designed to collect feedback from National Academy students regarding their courses and instructors. The results are used to help determine if the National Academy program is functioning as intended and meeting its goals and objectives. We will utilize the students' comments to improve the current curriculum.

5. An estimate of the total number of respondents and the amount of time estimated for an average respondent to respond:

Approximately 1,000 FBI National Academy students per year will respond to two types of questionnaires. (1) FBI National Academy: End-of-Session Student Course Questionnaire and (2) FBI National Academy: General Remarks Questionnaire. It is predicted we will receive a 75% response rate for both questionnaires.

Each student will respond to seven Student Course questionnaires—one for each course they completed. The average time for reading the questionnaire directions is estimated to be two (2) minutes; the time to complete each questionnaire is estimated to be approximately 13 minutes. Thus the total time to complete one Student Course questionnaire is 15 minutes and 105 minutes to complete all seven questionnaires.

For the FBI National Academy: General Remarks Questionnaire, students will respond to one questionnaire. The average time for reading the questionnaire directions is estimated to be two (2) minutes; the time to complete the questionnaire is estimated to be approximately 10 minutes. Thus the total time to complete the General Remarks Questionnaire is 12 minutes.

The total estimated time for both questionnaires per respondent is approximately 117 minutes or about 2 hours.

6. An estimate of the total public burden (in hours) associated with the collection:

1. Given that the approximately 75% of those surveyed (or 750) will respond, to the total public burden for completing all questionnaires is 1,462.5 hours.

For additional information, contact: Jerri Murray, Department Clearance Officer, United States Department of Justice, Policy and Planning Staff, Justice Management Division, Two Constitution Square, 145 N Street NE., Room 3E.405B, Washington, DC 20530.

Dated: April 8, 2014.
Jerri Murray,
Department Clearance Officer for PRA, United States Department of Justice.

[FR Doc. 2014-08174 Filed 4-10-14; 8:45 am]

BILLING CODE 4410-02-P